DEPARTMENT OF ENERGY

Proposed Agency Information Collection

AGENCY: U.S. Department of Energy.

ACTION: Notice and request for OMB review and comment.

SUMMARY: The Department of Energy (DOE) has submitted to the Office of Management and Budget (OMB) for clearance, a proposal for collection of information under the provisions of the Paperwork Reduction Act of 1995. The proposed collection will require annual reports from power companies that voluntarily join the Department's new Partnership for Energy Sector Climate Resilience. The goal of this partnership is for the Department and power company participants to work cooperatively to enhance the energy security of the nation's electricity infrastructure. The annual reports required of partners will include summaries of activities undertaken during the proceeding year including, for example, vulnerability assessments, resilience strategies, information on costs and benefits of actions taken, and best practices. Comments are invited on: (a) Whether the proposed collection of information is necessary for the proper performance of the functions of the department; (b) the accuracy of the Department's estimate of the burden of the proposed collection of information; (c) ways to enhance the quality, utility and clarity of the information being collected; and (d) ways to minimize the burden of the proposed collection on the respondents, including through the use of automated collection techniques.

DATES: Comments regarding this collection must be received on or before May 15, 2015. If you anticipate that you will be submitting comments, but find it difficult to do so within the period of time allowed by this notice, please advise the DOE Desk Officer at OMB of your intention to make a submission as soon as possible. The Desk Officer may be telephoned at 202-395-4718.

ADDRESSES: Written comments should be sent to the DOE Desk Officer, Office of Information and Regulatory Affairs, Office of Management and Budget, New Executive Office Building, Room 10102, 735 17th Street NW., Washington, DC 20503.

And to Dr. Craig Zamuda, U.S. Department of Energy, EPSA-20, 1000 Independence Avenue SW., Washington, DC 20585, or by fax 202 586-5345, or by email at craig.zamuda@hq.doe.gov.

FOR FURTHER INFORMATION CONTACT: Dr. Craig Zamuda, U.S. Department of Energy, EPSA-20, 1000 Independence Avenue SW., Washington, DC 20585, or by fax 202 586-5345, or by email at craig.zamuda@hq.doe.gov.

SUPPLEMENTARY INFORMATION: This information collection request contains: (1) OMB No:. “New”; (2) Information Collection Request Title: Partnership for Energy Sector Climate Resilience; (3) Type of Request: New collection; (4) Purpose: To enhance the resilience of the nation's power sector to extreme weather and climate change, the Department of Energy is establishing a partnership program with power sector companies. On an annual basis, participating companies are asked to report on activities they have undertaken to improve their resilience to extreme weather and climate change. This information will help facilitate improved resilience throughout the sector and better inform the Department's activities in support of these efforts. (5) Annual Estimated Number of Respondents: 25; (6) Annual Estimated Number of Total Responses: 50 (first year, 25 thereafter). (7) Annual Estimated Number of Burden Hours: 212 hours; (8) Annual Estimated Reporting and Recordkeeping Cost Burden: $8,959 total program-wide annual costs.

Statutory Authority: Title XIII of the Energy Independence and Security Act of 2007 calls for a variety of activities to support the modernization of the Nation's electricity transmission and distribution system to maintain a reliable and secure electricity infrastructure. In addition, Executive Orders, 13514 (Federal Leadership in Environmental, Energy and Economic Performance) and 13653 (Preparing the United States for the Impacts of Climate Change) also set forth a number of activities that would be supported by the information collected under this request.

Issued in Washington, DC, on April 8, 2015.
Judith M. Greenwald,
Deputy Director, Office of Climate, Environment and Efficiency, Office of Energy Policy and Systems Analysis, U.S. Department of Energy.

[FR Doc. 2015-08643 Filed 4-14-15; 8:45 am]

BILLING CODE 6450-01-P